NATIONAL AERONAUTICS AND SPACE ADMINISTRATION

[Notice (15-034)]

Government-Owned Inventions, Available for Licensing

AGENCY: National Aeronautics and Space Administration.

ACTION: Notice of Availability of inventions for licensing.

SUMMARY: Patent applications on the inventions listed below assigned to the National Aeronautics and Space Administration, have been filed in the United States Patent and Trademark Office, and are available for licensing.

DATES: May 18, 2015.

FOR FURTHER INFORMATION CONTACT: Robert H. Earp, III, Patent Attorney, Glenn Research Center at Lewis Field, Code 21-14, Cleveland, OH 44135; telephone (216) 433-3663; fax (216) 433-6790.

NASA Case No.: LEW-19036-1: Cavity Pull Rod: Device to Promote Single Crystal Growth from the Melt;

NASA Case No.: LEW-18477-2: Polymer Nanofiber Based Reversible Nano-Switch/Sensor Schottky Diode (nanoSSSD) Device;

NASA Case No.: LEW-19022-1: Passive Feed Electrolyzer;

NASA Case No.: LEW-19058-1: Process and Apparatus for Manufacturing a Multi-Material Hybrid Turbine Disk;

NASA Case No.: LEW-19041-1: Fuel Cell Power Management;

NASA Case No.: LEW-19200-1: Polyimide Aerogels having Polyamide Cross-Links and Processes for Making the Same;

NASA Case No.: LEW-19171-1: Low Power Charged Particle Counter;

NASA Case No.: LEW-18857-1: Superparamagnetic Energy Harvesting-Hummingbird Engine;

NASA Case No.: LEW-19156-1: Multi-Phase Ceramic System.

Sumara M. Thompson-King,
General Counsel.

[FR Doc. 2015-11966 Filed 5-15-15; 8:45 am]

BILLING CODE 7510-13-P